DEPARTMENT OF COMMERCE

International Trade Administration

[A-570-506]

Porcelain-on-Steel Cooking Ware From the People's Republic of China: Continuation of Antidumping Duty Order

AGENCY: Enforcement and Compliance, International Trade Administration, Department of Commerce.

SUMMARY: As a result of the determinations by the Department of Commerce (“the Department”) and the International Trade Commission (“ITC”) that revocation of the antidumping duty (“AD”) order on Porcelain-on-Steel Cooking Ware (“POS Cooking Ware”) from the People's Republic of China (“PRC”) would likely lead to a continuation or recurrence of dumping and material injury to an industry in the United States, the Department is publishing a notice of continuation of the antidumping duty order.

DATES: Effective August 11, 2016.

FOR FURTHER INFORMATION CONTACT: Andrew Devine, AD/CVD Operations, Enforcement and Compliance, International Trade Administration, U.S. Department of Commerce, 14th Street and Constitution Avenue NW., Washington, DC 20230; telephone: (202) 482-0238.

SUPPLEMENTARY INFORMATION:

Background

On February 2, 2016, the Department published the notice of the initiation of the fourth five-year (“sunset”) review of the Antidumping Order (“AD Order”) on POS Cooking Ware from the PRC, pursuant to section 751(c) of the Tariff Act of 1930, as amended (“the Act”).¹ As a result of its review, the Department determined that revocation of the AD Order would likely lead to a continuation or recurrence of dumping.²

¹ See Initiation of Five-Year (“Sunset”) Review, 80 FR 45945 (August 3, 2015).

² See Porcelain-on-Steel Cooking Ware From the People's Republic of China: Final Results of Expedited Sunset Review of the Antidumping Duty Order, 81 FR 36870 (June 8, 2016).

The Department, therefore, notified the ITC of the magnitude of the margins likely to prevail should the AD Order be revoked.

On July 28, 2016, the ITC published notice of its determination, pursuant to section 751(c) of the Act, that revocation of the AD Order on POS Cooking Ware from the PRC would likely lead to a continuation or recurrence of material injury to an industry in the United States within a reasonably foreseeable time.³

Scope of the Orders

³ See Porcelain-on-Steel Cooking Ware from China: Investigation No. 731-TA-298 (Fourth Review), USITC Publication 4625 (July, 2016); see also Porcelain-on-Steel Cooking Ware from China; Determination, 81 FR 49688 (July 28, 2016).

The merchandise covered by the AD Order is porcelain-on-steel cooking ware, including tea kettles, which do not have self-contained electric heating elements. All of the foregoing are constructed of steel and are enameled or glazed with vitreous glasses. The merchandise is currently classifiable under the Harmonized Tariff Schedule of the United States, (“HTSUS”) subheading 7323.94.00.⁴ Although the HTSUS subheading is provided for convenience and customs purposes, the written description of the merchandise is dispositive.

⁴ See Porcelain-on-Steel Cooking Ware from the People's Republic of China, 76 FR 7534 (February 10, 2011).

Continuation of the Order

As a result of the determinations by the Department and the ITC that revocation of the AD Order would likely lead to a continuation or recurrence of dumping and material injury to an industry in the United States, pursuant to section 751(d)(2) of the Act and 19 CFR 351.218(a), the Department hereby orders the continuation of the AD Order on POS Cooking Ware from the PRC. U.S. Customs and Border Protection will continue to collect AD cash deposits at the rates in effect at the time of entry for all imports of subject merchandise.

The effective date of the continuation of the Order will be the date of publication in the Federal Register of this notice of continuation. Pursuant to section 751(c)(2) of the Act, the Department intends to initiate the next five-year review of the Order not later than 30 days prior to the fifth anniversary of the effective date of continuation.

This five-year sunset review and this notice are in accordance with section 751(c) of the Act and published pursuant to section 777(i)(1) of the Act and 19 CFR 351.218(f)(4).

Dated: August 5, 2016.
Ronald K. Lorentzen,
Acting Assistant Secretary for Enforcement and Compliance.

[FR Doc. 2016-19143 Filed 8-10-16; 8:45 am]

BILLING CODE 3510-DS-P